DEPARTMENT OF ENERGY

Federal Energy Regulatory Commission

[Docket No. RP00-184-002]

Natural Gas Pipeline Company of America; Notice of Compliance Filing

September 12, 2000.

Take notice that on September 8, 2000, Natural Gas Pipeline Company of America (Natural) tendered for filing to be a part of its FERC Gas Tariff, Sixth Revised Volume No. 1, certain tariff sheets to be effective September 1, 2000.

Natural states that these tariff sheets were filed in compliance with the Federal Commission's “Order After Technical Conference Accepting Tariff Sheets” issued August 31, 2000, in Docket Nos. RP00-184-000 and RP00-184-001. The only tariff changes reflected in this filing are those required by the Order or those necessary to conform the tariff sheets accepted in the Order with prior Commission action in another docket.

Natural requests waiver of the Commission's Regulations to the extent necessary to permit the tariff sheets submitted herein to become effective September 1, 2000, consistent with the Order.

Natural states that copies of the filing have been mailed to all parties set out on the Commission's official service list in Docket No. RP00-184.

Any person desiring to protest this filing should file a protest with the Federal Energy Regulatory Commission, 888 First Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-23836 Filed 9-15-00; 8:45 am]

BILLING CODE 6717-01-M